DEPARTMENT OF COMMERCE

National Oceanic and Atmospheric Administration

[RTID 0648-XB798]

Marine Mammals; File No. 26254

AGENCY: National Marine Fisheries Service (NMFS), National Oceanic and Atmospheric Administration (NOAA), Commerce.

ACTION: Notice; receipt of application.

SUMMARY: Notice is hereby given that the Alaska Department of Fish & Game (ADF&G), 1300 College Road, Fairbanks, AK 99701 (Responsible Party: Lori Quakenbush), has applied in due form for a permit to conduct research on ice seals in Alaska.

DATES: Written, telefaxed, or email comments must be received on or before August 22, 2022.

ADDRESSES: The application and related documents are available for review by selecting “Records Open for Public Comment” from the “Features” box on the Applications and Permits for Protected Species (APPS) home page, https://apps.nmfs.noaa.gov, and then selecting File No. 26254 from the list of available applications. These documents are also available upon written request via email to NMFS.Pr1Comments@noaa.gov.

Written comments on this application should be submitted via email to NMFS.Pr1Comments@noaa.gov. Please include File No. 26254 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

On February 14, 2022, notice was published in the Federal Register (87 FR 8235) that a request for an amendment to a scientific research permit for research on ice seals had been submitted by the above-named applicant. Following the close of the public comment period, the applicant made a substantive change to their application request; therefore, we are opening an additional public comment period to allow review and comment on the revised permit application.

The applicant requests a permit to conduct scientific research on spotted (Phoca largha), ringed (Pusa hispida), bearded (Erignathus barbatus), and ribbon (Histriophoca fasciata) seals in the Bering, Chukchi, and Beaufort seas of Alaska. The purpose of this research is to monitor the status and health of seal species by analyzing samples from the subsistence harvest and by documenting movements and habitat use by tracking animals with satellite transmitters. In addition to sampling harvested seals, the applicant would capture up to 50 bearded seals, 20 ribbon seals, 50 ringed seals, and 50 spotted seals per year that would be sedated, measured, sampled (e.g., blood and skin), flipper tagged, and fitted with transmitters. The applicant requests to capture an additional 50 bearded seals, 20 ribbon seals, 50 ringed seals, and 50 spotted seals per year that would be measured, sampled, and flipper tagged but not fitted with external instruments. The applicant also requests permission to harass non-target seals of all four pinniped species as well as beluga whales (Delphinapterus leucas). The applicant requests up to five mortalities per species per year for pinniped captures and one mortality of a beluga whale annually due to accidental entanglement in pinniped capture nets. The applicant also requests to collect and receive samples primarily from U.S. subsistence hunted pinnipeds as well as import and export unlimited samples from up to 5,000 animals of each ice seal species as well as unlimited samples from 100 unidentified pinnipeds. Samples would be imported from primarily Russia, Canada, Svalbard (Norway) and exported to Canada for analyses. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 18, 2022.
Amy Sloan,
Acting Chief, Permits and Conservation Division, Office of Protected Resources, National Marine Fisheries Service.

[FR Doc. 2022-15575 Filed 7-20-22; 8:45 am]

BILLING CODE 3510-22-P